DEPARTMENT OF ENERGY

Federal Energy Regulatory Commission

Combined Notice of Filings #1

Take notice that the Commission received the following exempt wholesale generator filings:

Docket Numbers: EG24-100-000.

Applicants: CPV Backbone Solar, LLC.

Description: CPV Backbone Solar, LLC submits Notice of Self-Certification of Exempt Wholesale Generator Status.

Filed Date: 2/1/24.

Accession Number: 20240201-5039.

Comment Date: 5 p.m. ET 2/22/24.

Take notice that the Commission received the following electric rate filings:

Docket Numbers: ER10-1474-010; ER10-1478-012; ER10-1473-010; ER10-2689-013.

Applicants: West Penn Power Company, Pennsylvania Power Company, Pennsylvania Electric Company, Metropolitan Edison Company.

Description: Notice of Non-Material Change in Status of Metropolitan Edison Company, et al.

Filed Date: 1/31/24.

Accession Number: 20240131-5596.

Comment Date: 5 p.m. ET 2/21/24.

Docket Numbers: ER10-1789-010; ER10-1768-009; ER10-1771-009; ER16-2725-007.

Applicants: PSEG Energy Solutions LLC, PSEG Nuclear LLC, Public Service Electric and Gas Company, PSEG Energy Resources & Trade LLC.

Description: Notice of Non-Material Change in Status of PSEG Energy Resources & Trade LLC, et al.

Filed Date: 1/31/24.

Accession Number: 20240131-5605.

Comment Date: 5 p.m. ET 2/21/24.

Docket Numbers: ER10-1817-030; ER10-1818-037; ER10-1819-040; ER10-1820-043.

Applicants: Northern States Power Company, a Wisconsin corporation, Northern States Power Company, a Minnesota corporation, Public Service Company of Colorado, Southwestern Public Service Company.

Description: Notice of Change in Status of Southwestern Public Service Company, et al.

Filed Date: 1/31/24.

Accession Number: 20240131-5606.

Comment Date: 5 p.m. ET 2/21/24.

Docket Numbers: ER10-2835-011.

Applicants: Google Energy LLC.

Description: Notice of Change in Status of Google Energy LLC, et al.

Filed Date: 1/31/24.

Accession Number: 20240131-5599.

Comment Date: 5 p.m. ET 2/21/24.

Docket Numbers: ER12-1934-014; ER10-1882-012; ER12-1933-016.

Applicants: Interstate Power and Light Company, Wisconsin River Power Company, Wisconsin Power and Light Company.

Description: Notice of Change in Status of Wisconsin Power and Light Company, et al.

Filed Date: 1/31/24.

Accession Number: 20240131-5608.

Comment Date: 5 p.m. ET 2/21/24.

Docket Numbers: ER16-1720-027; ER21-2137-010.

Applicants: IR Energy Management LLC, Invenergy Energy Management LLC.

Description: Notice of Change in Status of Invenergy Energy Management LLC, et al.

Filed Date: 1/31/24.

Accession Number: 20240131-5604.

Comment Date: 5 p.m. ET 2/21/24.

Docket Numbers: ER17-1742-010; ER13-2490-014; ER17-311-010; ER19-2595-009; ER19-2670-009; ER19-2671-009; ER19-2672-009; ER20-1073-008; ER20-2510-008; ER20-2512-008; ER20-2515-008; ER20-2663-008; ER21-2406-007; ER21-2407-007; ER21-2408-007; ER21-2409-007; ER21-2638-007; ER22-734-006; ER22-2028-005; ER22-2421-004; ER22-2423-004; ER22-2425-004; ER22-2427-004; ER23-1237-002.

Applicants: SR Snipesville III, LLC, SR Cedar Springs, LLC, SR Clay, LLC, SR DeSoto I Lessee, LLC, SR DeSoto I, LLC, SR Hazlehurst, LLC, SR Arlington, LLC, SR Perry, LLC, SR Snipesville II, LLC, SR Lumpkin, LLC, SR Georgia Portfolio II Lessee, LLC, Lancaster Solar LLC, SR Snipesville, LLC, SR Georgia Portfolio I MT, LLC, SR Baxley, LLC, Odom Solar LLC, SR Terrell, LLC, SR Arlington II MT, LLC, SR Arlington II, LLC, SR Meridian III, LLC, SR Hazlehurst III, LLC, SR South Loving LLC, Simon Solar, LLC, Hattiesburg Farm, LLC.

Description: Notice of Non-Material Change in Status of Hattiesburg Farm, LLC, et al.

Filed Date: 1/31/24.

Accession Number: 20240131-5594.

Comment Date: 5 p.m. ET 2/21/24.

Docket Numbers: ER17-2088-004; ER10-2136-022; ER11-4044-032; ER11-4046-031; ER16-2035-004; ER21-2715-005; ER21-2716-005; ER22-2091-004; ER23-1846-002.

Applicants: Boomtown Solar Energy LLC, Calhoun Solar Energy LLC, Fairbanks Solar Holdings LLC, Fairbanks Solar Energy Center LLC, Black Oak Wind, LLC, Gratiot County Wind II LLC, Gratiot County Wind LLC, Invenergy Cannon Falls LLC, Apple Blossom Wind, LLC.

Description: Notice of Change in Status of Apple Blossom Wind, LLC, et al.

Filed Date: 1/31/24.

Accession Number: 20240131-5601.

Comment Date: 5 p.m. ET 2/21/24.

Docket Numbers: ER20-2054-000.

Applicants: ISO New England Inc., Central Maine Power Company, Versant Power, Fitchburg Gas and Electric Light Company, Green Mountain Power Corporation, New England Power Company, New Hampshire Transmission, LLC, NSTAR Electric Company, Public Service Company of New Hampshire, The Connecticut Light and Power Company, The United Illuminating Company, Unitil Energy Systems, Inc., Vermont Electric Cooperative, Inc., Vermont Transco LLC.

Description: Formal Challenge of Maine Office of Public Advocate to July 31, 2023, Annual Informational Filing by New England Transmission Owners.

Filed Date: 1/31/24.

Accession Number: 20240131-5415.

Comment Date: 5 p.m. ET 2/21/24.

Docket Numbers: ER22-381-010; ER10-1781-006; ER19-2626-008; ER21-714-009; ER22-399-004.

Applicants: Meadow Lake Solar Park LLC, Indiana Crossroads Wind Farm LLC, Rosewater Wind Farm LLC, Northern Indiana Public Service Company, Dunns Bridge Solar Center, LLC.

Description: Notice of Non-Material Change in Status of Dunns Bridge Solar Center, LLC.

Filed Date: 1/31/24.

Accession Number: 20240131-5603.

Comment Date: 5 p.m. ET 2/21/24.

Docket Numbers: ER22-2422-003.

Applicants: SR Turkey Creek, LLC.

Description: Notice of Non-Material Change in Status of SR Turkey Creek, LLC.

Filed Date: 1/31/24.

Accession Number: 20240131-5597.

Comment Date: 5 p.m. ET 2/21/24.

Docket Numbers: ER22-2424-003; ER19-53-006; ER22-2426-003; ER22-2428-003.

Applicants: SR McKellar Lessee, LLC, SR McKellar, LLC, SR Millington, LLC, SR Bell Buckle, LLC.

Description: Notice of Non-Material Change in Status of SR Bell Buckle, LLC, et al.

Filed Date: 1/31/24.

Accession Number: 20240131-5598.

Comment Date: 5 p.m. ET 2/21/24.

Docket Numbers: ER23-235-001.

Applicants: Old Gold Energy Center, LLC.

Description: Notice of Non-Material Change in Status of Old Gold Energy Center, LLC.

Filed Date: 1/31/24.

Accession Number: 20240131-5590.

Comment Date: 5 p.m. ET 2/21/24.

Docket Numbers: ER23-2368-001; ER23-2747-001.

Applicants: SCEF1 Fuel Cell, LLC, Derby Fuel Cell, LLC.

Description: Notice of Non-Material Change in Status of Derby Fuel Cell, LLC, et al.

Filed Date: 1/31/24.

Accession Number: 20240131-5600.

Comment Date: 5 p.m. ET 2/21/24.

Docket Numbers: ER23-2407-002.

Applicants: Strauss Wind, LLC.

Description: Notice of Non-Material Change in Status of Strauss Wind, LLC.

Filed Date: 1/31/24.

Accession Number: 20240131-5592.

Comment Date: 5 p.m. ET 2/21/24.

Docket Numbers: ER23-2449-004.

Applicants: Lyons Solar, LLC.

Description: Compliance filing: Compliance Filing Under Docket Nos. ER23-2449 and EL24-52 to be effective 10/1/2023.

Filed Date: 2/1/24.

Accession Number: 20240201-5079.

Comment Date: 5 p.m. ET 2/22/24.

Docket Numbers: ER23-2692-001.

Applicants: Madison Fields Solar Project, LLC.

Description: Compliance filing: Revised Rate Schedule FERC No. 1 to be effective 12/14/2023.

Filed Date: 2/1/24.

Accession Number: 20240201-5062.

Comment Date: 5 p.m. ET 2/22/24.

Docket Numbers: ER23-2915-001; ER10-1899-021; ER10-1852-085; ER10-1951-060; ER11-4462-084; ER13-752-020; ER14-1630-017; ER15-2601-013; ER17-838-058; ER17-1774-011.

Applicants: NextEra Energy Bluff Point, LLC, NextEra Energy Marketing, LLC, Green Mountain Storage, LLC, Mantua Creek Solar, LLC, Energy Storage Holdings, LLC, NEPM II, LLC, NextEra Energy Services Massachusetts, LLC, Florida Power & Light Company, FPL Energy Illinois Wind, LLC, Chesapeake Solar Project, LLC.

Description: Triennial Market Power Analysis for Southeast Region of Chesapeake Solar Project, LLC, et al.

Filed Date: 1/31/24.

Accession Number: 20240131-5602.

Comment Date: 5 p.m. ET 4/1/24.

Docket Numbers: ER24-172-002.

Applicants: FirstEnergy Pennsylvania Electric Company.

Description: Notice of Non-Material Change in Status of FirstEnergy Pennsylvania Electric Company.

Filed Date: 1/31/24.

Accession Number: 20240131-5595.

Comment Date: 5 p.m. ET 2/21/24.

Docket Numbers: ER24-332-001.

Applicants: Alabama Power Company, Georgia Power Company, Mississippi Power Company.

Description: Tariff Amendment: Alabama Power Company submits tariff filing per 35.17(b): Carters Ford Solar LGIA Deficiency Response to be effective 10/23/2023.

Filed Date: 2/1/24.

Accession Number: 20240201-5106.

Comment Date: 5 p.m. ET 2/22/24.

Docket Numbers: ER24-1146-000.

Applicants: North Rosamond Solar, LLC.

Description: Compliance filing: Revised Market-Based Rate Tariff to be effective 2/1/2024.

Filed Date: 1/31/24.

Accession Number: 20240131-5405.

Comment Date: 5 p.m. ET 2/21/24.

Docket Numbers: ER24-1147-000.

Applicants: Brookfield Energy Marketing Inc.

Description: Compliance filing: Revised Market-Based Rate Tariff to be effective 2/1/2024.

Filed Date: 1/31/24.

Accession Number: 20240131-5414.

Comment Date: 5 p.m. ET 2/21/24.

Docket Numbers: ER24-1148-000.

Applicants: Brookfield Energy Marketing LP.

Description: Compliance filing: Revised Market-Based Rate Tariff to be effective 2/1/2024.

Filed Date: 1/31/24.

Accession Number: 20240131-5421.

Comment Date: 5 p.m. ET 2/21/24.

Docket Numbers: ER24-1149-000.

Applicants: Southwest Power Pool, Inc.

Description: 205(d) Rate Filing: 3316R2 Carthage Water and Electric Plant NITSA NOA to be effective 1/1/2024.

Filed Date: 1/31/24.

Accession Number: 20240131-5427.

Comment Date: 5 p.m. ET 2/21/24.

Docket Numbers: ER24-1150-000.

Applicants: Southwest Power Pool, Inc.

Description: 205(d) Rate Filing: Fifth Amended and Restated Western Joint Dispatch Agreements to be effective 4/1/2024.

Filed Date: 1/31/24.

Accession Number: 20240131-5435.

Comment Date: 5 p.m. ET 2/21/24.

Docket Numbers: ER24-1151-000.

Applicants: Aquamarine Lessee, LLC.

Description: 205(d) Rate Filing: Notice of Non-Mat. Changes in Status &amp; MBR Tariff Revisions to be effective 4/1/2024.

Filed Date: 1/31/24.

Accession Number: 20240131-5439.

Comment Date: 5 p.m. ET 2/21/24.

Docket Numbers: ER24-1152-000.

Applicants: Aquamarine Westside, LLC.

Description: 205(d) Rate Filing: Notice of Non-Mat. Changes in Status &amp; MBR Tariff Revisions to be effective 4/1/2024.

Filed Date: 1/31/24.

Accession Number: 20240131-5445.

Comment Date: 5 p.m. ET 2/21/24.

Docket Numbers: ER24-1153-000.

Applicants: Puget Sound Energy, Inc.

Description: Compliance filing: Order No. 902 Compliance Filing, Revisions to Attachment C to be effective 2/1/2024.

Filed Date: 1/31/24.

Accession Number: 20240131-5455.

Comment Date: 5 p.m. ET 2/21/24.

Docket Numbers: ER24-1154-000.

Applicants: Brookfield Renewable Energy Marketing US LLC.

Description: Compliance filing: Revised Market-Based Rate Tariff to be effective 2/1/2024.

Filed Date: 1/31/24.

Accession Number: 20240131-5456.

Comment Date: 5 p.m. ET 2/21/24.

Docket Numbers: ER24-1155-000.

Applicants: Brookfield Renewable Trading and Marketing LP.

Description: Compliance filing: Revised Market-Based Rate Tariff to be effective 2/1/2024.

Filed Date: 1/31/24.

Accession Number: 20240131-5463.

Comment Date: 5 p.m. ET 2/21/24.

Docket Numbers: ER24-1156-000.

Applicants: Florida Power & Light Company.

Description: Compliance filing: FPL OATT Order No. 2023 Compliance Filing to be effective 4/1/2024.

Filed Date: 1/31/24.

Accession Number: 20240131-5471.

Comment Date: 5 p.m. ET 2/21/24.

Docket Numbers: ER24-1158-000.

Applicants: Entergy Arkansas, LLC.

Description: 205(d) Rate Filing: Entergy MSS-4 Decom Update to be effective 4/1/2024.

Filed Date: 1/31/24.

Accession Number: 20240131-5487.

Comment Date: 5 p.m. ET 2/21/24.

Docket Numbers: ER24-1159-000.

Applicants: TransAlta Energy Marketing Corp.

Description: Compliance filing: Notice of Change in Status to be effective 4/1/2024.

Filed Date: 1/31/24.

Accession Number: 20240131-5496.

Comment Date: 5 p.m. ET 2/21/24.

Docket Numbers: ER24-1160-000.

Applicants: TransAlta Energy Marketing (U.S.) Inc.

Description: Compliance filing: Notice of Change in Status to be effective 4/1/2024.

Filed Date: 1/31/24.

Accession Number: 20240131-5500.

Comment Date: 5 p.m. ET 2/21/24.

Docket Numbers: ER24-1161-000.

Applicants: Lakeswind Power Partners, LLC.

Description: Compliance filing: Notice of Change in Status to be effective 4/1/2024.

Filed Date: 1/31/24.

Accession Number: 20240131-5501.

Comment Date: 5 p.m. ET 2/21/24.

Docket Numbers: ER24-1162-000.

Applicants: MATL LLP.

Description: MATL LLP Request for Negotiated Rate Authorization and Filing of a Post-Selection Open Solicitation Report.

Filed Date: 1/26/24.

Accession Number: 20240126-5239.

Comment Date: 5 p.m. ET 2/16/24.

Docket Numbers: ER24-1163-000.

Applicants: CPV Backbone Solar, LLC.

Description: Baseline eTariff Filing: Application for Market-Based Rate Authority to be effective 4/2/2024.

Filed Date: 2/1/24.

Accession Number: 20240201-5029.

Comment Date: 5 p.m. ET 2/22/24.

Docket Numbers: ER24-1164-000.

Applicants: American Electric Power Service Corporation, PJM Interconnection, L.L.C.

Description: 205(d) Rate Filing: American Electric Power Service Corporation submits tariff filing per 35.13(a)(2)(iii: AEP submits revisions to ILDSA, SA No. 5120 to be effective 4/1/2024.

Filed Date: 2/1/24.

Accession Number: 20240201-5048.

Comment Date: 5 p.m. ET 2/22/24.

Docket Numbers: ER24-1165-000.

Applicants: LifeEnergy, LLC.

Description: Tariff Amendment: Notice of Cancellation of Market-Based Rate Tariff to be effective 2/2/2024.

Filed Date: 2/1/24.

Accession Number: 20240201-5081.

Comment Date: 5 p.m. ET 2/22/24.

Docket Numbers: ER24-1166-000.

Applicants: PJM Interconnection, L.L.C.

Description: 205(d) Rate Filing: Amendment to ISA, SA No. 5619; Queue No. AC1-221/AD1-058 to be effective 4/2/2024.

Filed Date: 2/1/24.

Accession Number: 20240201-5108.

Comment Date: 5 p.m. ET 2/22/24.

Docket Numbers: ER24-1167-000.

Applicants: Southern California Edison Company.

Description: 205(d) Rate Filing: Second Amendment GIA & DSA, Rhodia (WDT891/SA Nos. 472-473) to be effective 2/2/2024.

Filed Date: 2/1/24.

Accession Number: 20240201-5111.

Comment Date: 5 p.m. ET 2/22/24.

Docket Numbers: ER24-1168-000.

Applicants: PJM Interconnection, L.L.C.

Description: Tariff Amendment: Notice of Cancellation of WMPA, SA No. 5734; Queue No. AF2-429 re: withdrawal to be effective 4/2/2024.

Filed Date: 2/1/24.

Accession Number: 20240201-5132.

Comment Date: 5 p.m. ET 2/22/24.

Docket Numbers: ER24-1169-000.

Applicants: PJM Interconnection, L.L.C.

Description: Tariff Amendment: Notice of Cancellation of WMPA, SA No. 5731; Queue No. AF2-431 re: withdrawal to be effective 4/2/2024.

Filed Date: 2/1/24.

Accession Number: 20240201-5138.

Comment Date: 5 p.m. ET 2/22/24.

Take notice that the Commission received the following electric reliability filings.

Docket Numbers: RD24-3-000.

Applicants: North American Electric Reliability Corporation.

Description: North American Electric Reliability Corporation submits Petition for Approval of Proposed Reliability Standard CIP-012-2.

Filed Date: 1/31/24.

Accession Number: 20240131-5609.

Comment Date: 5 p.m. ET 3/1/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: February 1, 2024.
Debbie-Anne A. Reese,
Acting Secretary.

[FR Doc. 2024-02468 Filed 2-6-24; 8:45 am]

BILLING CODE 6717-01-P